DEPARTMENT OF HEALTH AND HUMAN SERVICES

Office of the Secretary

Notice of Request for Public Comment

AGENCY: Secretary's Advisory Committee on Genetics, Health, and Society, Office of the Secretary, Department of Health and Human Services.

SUMMARY: The Secretary's Advisory Committee on Genetics, Health, and Society (SACGHS) is requesting public comment on a draft report to the Secretary of Health and Human Services (HHS) on genetics education and training of health care professionals, public health providers, and consumers. A copy of the draft report is available electronically at http://oba.od.nih.gov/SACGHS/sacghs_public_comments.html. A copy may also be obtained by contacting Kathryn Camp at campkm@od.nih.gov or 301-496-9838.

DATES: Please submit all public comments by June 30, 2010, for consideration by SACGHS as it finalizes its report to the Secretary.

ADDRESSES: Public comments on the draft report should be addressed to Steven Teutsch, MD, MPH, SACGHS Chair, and transmitted via e-mail to Kathryn Camp at campkm@od.nih.gov.

Comments may also be mailed to SACGHS, attn: Kathryn Camp, Office of Biotechnology Activities, National Institutes of Health, 6705 Rockledge Drive, Suite 750, Bethesda, MD 20892, or faxed to 301-496-9839.

FOR FURTHER INFORMATION CONTACT: Kathryn Camp, NIH Office of Biotechnology Activities, 6705 Rockledge Drive, Suite 750, Bethesda, MD 20892, 301-496-9838, campkm@od.nih.gov.

SUPPLEMENTARY INFORMATION: The Department of Health and Human Services (HHS) established SACGHS to serve as a public forum for deliberations on the broad range of human health and societal issues raised by the development and use of genetic technologies and, as warranted, to provide advice on these issues. For more information about the Committee, please visit its Web site: http://oba.od.nih.gov/SACGHS/sacghs_public_comments.html.

SACGHS identified genetics education and training of health care professionals, the public health workforce, and consumers as a high priority during its 2004 and 2008 priority-setting processes. Providing genetics education and training for health professionals is vital to achieve the optimal use of genetic and genomic technologies and ensure the appropriate integration of genetic knowledge into the health care and public health systems. In addition, the public will need sound information regarding the role of genetics and genomics in health and disease and guidance to assist in informed decisionmaking as the availability of genetic tests and direct-to-consumer genetic services increases.

The draft report, Genetics Education and Training of Health Care Professionals, Public Health Providers, and Consumers, discusses the current state of genetics education and training of health care professionals, public health providers, and consumers and explores genetics education and training activities of Federal departments and agencies, health professional organizations, and consumer advocacy groups. It presents recommendations in three major areas: (1) The genetics education and training needs and gaps for health care professionals, public health providers, and consumers; (2) the specific needs of health care professionals and public health providers who work with underserved and underrepresented groups and populations and the needs of consumers with varying literacy levels; and (3) the importance of family health history in risk assessment and health promotion. Once finalized, the report and recommendations will be transmitted to the Secretary of Health and Human Services.

SACGHS is requesting comments on all aspects of the draft report and recommendations. In particular, the Committee would welcome feedback on the following questions:

• Are the discussions of topics and issues accurate and complete?

• Do the conclusions of the draft report follow from the literature review and SACGHS survey and interview results?

• Do the draft recommendations target the issues and concerns identified in this report?

• Are the recommendations specific enough? Do they rely to the appropriate degree on the public sector? On the private sector? On public-private partnerships?

• Which draft recommendations should be of highest priority for the Federal government to address?

Comments received by June 30, 2010, will be considered by SACGHS in preparing the final report. The revised draft report and public comments will be discussed at a future SACGHS meeting.

Comments will also be available for public inspection at the NIH Office of Biotechnology Activities, Monday through Friday, between the hours of 9 a.m. and 5 p.m.

Dated: May 18, 2010.
Anna Snouffer,
Deputy Director, Office of Federal Advisory Committee Policy.

[FR Doc. 2010-12450 Filed 5-21-10; 8:45 am]

BILLING CODE 4140-01-P